DEPARTMENT OF AGRICULTURE

Submission for OMB Review; Comment Request

March 20, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 27, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Review of Major Changes in the Supplemental Nutrition Assistance Program (SNAP).

OMB Control Number: 0584-0579.

Summary of Collection: Section 11 of the Act (7 U.S.C. 2020) requires the United Stated Department of Agriculture (USDA), Food and Nutrition Service (FNS) to develop standards for identifying major changes in the operations of State agencies that administer SNAP. Section 272.15 of the regulations requires State agencies to notify the Department when planning to implement a major change in operations and State agencies to collect any information required by the Department to identify and correct any adverse effects on program integrity or access, including access by vulnerable households.

Need and Use of the Information: FNS will use the information to for the purpose of administering an ongoing program. This information is also collect to allow FNS to properly monitor the program for compliance.

Description of Respondents: State, Local, or Tribal Government.

Number of Respondents: 13 out of 53.

Frequency of Responses: Recordkeeping; Reporting: Annually.

Total Burden Hours: 3,504.

Ruth Brown,
Departmental Information Collection Clearance Officer.

[FR Doc. 2020-06260 Filed 3-25-20; 8:45 am]

BILLING CODE 3410-30-P